DEPARTMENT OF TRANSPORTATION

Federal Highway Administration

Notice of Final Federal Agency Actions on State Highway 130 in Texas

AGENCY: Federal Highway Administration (FHWA), DOT.

ACTION: Notice of limitation on claims for judicial review of actions by FHWA and other federal agencies.

SUMMARY: This notice announces actions taken by the FHWA and other Federal agencies that are final within the meaning of 23 U.S.C. 139(l)(1). The actions relate to a proposed highway project, State Highway 130 (SH 130), north of Georgetown at I-35, south to IH 10 East of Seguin in Williamson, Travis, Caldwell, and Guadalupe Counties in the State of Texas. The Federal actions, taken as a result of an environmental review process conducted in accordance with the National Environmental Policy Act, 42 U.S.C. 4321-4351 (NEPA), determined certain issues relating to the proposed project. Those actions grant licenses, permits, and approvals for the project.

DATES: By this notice, the FHWA is advising the public of final agency actions subject to 23 U.S.C. 139(l)(1). A claim seeking judicial review of the Federal agency actions on the highway project will be barred unless the claim is filed on or before June 11, 2007. If the Federal law that authorizes judicial review of a claim provides a time period of less than 180 days for filing such claim, then that shorter time period still applies.

FOR FURTHER INFORMATION CONTACT: Mr. Salvador Deocampo, District Engineer, Federal Highway Administration, 300 E. 8th Street, Rm. 826, Austin, Texas 78701; telephone: (512) 536-5950; e-mail: salvador.deocampo@fhwa.dot.gov. The FHWA Texas Division Office's normal business hours are 7:45 a.m. to 4:15 p.m. You may also contact Ms. Dianna Noble, Director, Environmental Affairs Division, Texas Department of Transportation, 125 E. 11th Street, Austin, Texas 78701; telephone: (512) 416-2734; e-mail: dnoble@dot.state.tx.us. The TxDOT Environmental Affairs Division Office's normal business hours are 8 a.m. to 5 p.m.

SUPPLEMENTARY INFORMATION: Notice is hereby given that the FHWA and other Federal agencies have taken final agency actions by issuing licenses, permits, and approvals for the following highway project in the State of Texas: State Highway 130 (SH 130) is a 91-mile project from IH 35 at the intersection with SH 195, north of Georgetown, Texas, in Williamson County, through Travis and Caldwell Counties, to IH 10 near Seguin, Texas, in Guadalupe County. The project will be a controlled access tollway located predominantly on new alignment and will consist of 2 lanes in each direction with intermittent non-tolled frontage roads to maintain local access. A total of 8212 acres of new right-of-way will be acquired for construction of this project. The actions by the Federal agencies, and the laws under which such actions were taken, are described in the Final Environmental Impact Statement (FEIS) for the project, approved on April 4, 2001, in the FHWA Record of Decision (ROD) issued on June 5, 2001, the FEIS Reevaluation dated October 2006 and approved November 20, 2006, and in other documents in the FHWA administrative record. The FEIS, ROD, Reevaluation and other documents in the FHWA administrative record file are available by contacting the FHWA or the Texas Department of Transportation as noted above. The FEIS Reevaluation dated October 2006 and related documents are available online at www.centraltexasturnpike.org. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; Farmland Protection Policy Act (FPPA) [7 U.S.C. 4201-4209].

7. Wetlands and Water Resources: Clean Water Act, 33 U.S.C. 1251-1377 (Section 404, Section 401, Section 319); TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898 Federal Actions to Address Environmental Justice in Minority Populations and Low Income Populations; E.O. 11593 Protection and Enhancement of Cultural Resources; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: November 30, 2006.
Salvador Deocampo,
District Engineer. Austin, Texas.

[FR Doc. 06-9654 Filed 12-12-06; 8:45 am]

BILLING CODE 4910-R4-M